DEPARTMENT OF THE INTERIOR

Fish and Wildlife Service

[FWS-R4-R-2009-N186; 40136-1265-0000-S3]

Ernest F. Hollings ACE Basin National Wildlife Refuge, Charleston, Beaufort, Colleton, and Hampton Counties, SC

AGENCY: Fish and Wildlife Service, Interior.

ACTION: Notice of availability: Final comprehensive conservation plan and finding of no significant impact.

SUMMARY: We, the U.S. Fish and Wildlife Service (Service), announce the availability of our final comprehensive conservation plan (CCP) and finding of no significant impact (FONSI) for the environmental assessment for Ernest F. Hollings ACE Basin National Wildlife Refuge (ACE Basin NWR). In the final CCP, we describe how we will manage this refuge for the next 15 years.

ADDRESSES: You may obtain a copy of the CCP by writing to: Mr. Van Fischer, Refuge Planner, South Carolina Lowcountry Refuge Complex, 5801 Highway 17 North, Awendaw, SC 29429. You may also access and download the document from the Service's Web site: http://southeast.fws.gov/planning.

FOR FURTHER INFORMATION CONTACT: Mr. Van Fischer; telephone: 843/928-3264; E-mail: van_fischer@fws.gov.

SUPPLEMENTARY INFORMATION:

Introduction

With this notice, we finalize the CCP process for ACE Basin NWR. We started this process through a notice in the Federal Register on January 3, 2007 (72 FR 141). For more about the process, see that notice. ACE Basin NWR was established on September 20, 1990, and was renamed the Ernest F. Hollings ACE Basin National Wildlife Refuge on May 16, 2005. The refuge is a partner in the ACE Basin Task Force, a coalition consisting of the Service, the South Carolina Department of Natural Resources, Ducks Unlimited, The Nature Conservancy, The Low Country Open Land Trust, Mead Westvaco, and private landowners of the ACE Basin system. The refuge's two separate units (Edisto and Combahee) are further broken down into subunits, with the Edisto Unit containing the Barrelville, Grove, and Jehossee subunits; and the Combahee Unit containing the Bonny Hall, Combahee Fields, and Yemassee subunits. The refuge is divided into 9 management units or compartments, ranging in size from 350 to 3,355 acres. Compartment boundaries are established along geographic features that can be easily identified on the ground (i.e., rivers, roads, and trails).

We announce our decision and the availability of the final CCP and FONSI for ACE Basin NWR in accordance with the National Environmental Policy Act (NEPA) [40 CFR 1506.6(b)] requirements. We completed a thorough analysis of impacts on the human environment, which we included in the Draft Comprehensive Conservation Plan and Environmental Assessment (Draft CCP/EA). The CCP will guide us in managing and administering ACE Basin NWR for the next 15 years. Alternative C is the foundation for the CCP.

The compatibility determinations for upland game hunting, fishing/boating, wildlife observation and photography, environmental education and interpretation, bicycling, research, exotic and nuisance wildlife control, forest management—commercial timber harvest, and cooperative farming are also available in the CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

Approximately 120 copies of the Draft CCP/EA were made available for a 30-day public review period as announced in the Federal Register May 4, 2009 (74 FR 20495). Written comments were received from local citizens and the South Carolina Department of Natural Resources.

Selected Alternative

After considering the comments we received, we have selected Alternative C for implementation. Our primary focus under Alternative C will be to increase overall wildlife and habitat diversity. Although waterfowl will remain a focus of management, wetland habitat manipulations will also consider the needs of multiple species, such as marsh and wading birds. We will more actively manage upland forests and fields for neotropical migratory birds. Landscape level consideration of habitat management will include a diversity of open fields, upland and wetland forests, and additional wetlands. Upland loblolly pine plantations (e.g., relic industrial forests) will be heavily thinned to encourage multi-strata vegetation composition and hardwood interspersion. More xeric loblolly pine plantations will be converted to longleaf pine savannas and subjected to frequent growing season prescribed fires to favor warm season grasses and forbs and the potential reintroduction of red-cockaded woodpeckers in the ACE Basin Project Area. Multiple species consideration will include species and habitats identified by the South Atlantic Migratory Bird Initiative and the State's Strategic Conservation Plan.

This alternative will expand our monitoring of migratory neotropical and breeding songbirds and other resident species. Monitoring efforts will be increased with the assistance of additional staff, trained volunteers, and academic researchers. Greater effort will be made to recruit academic researchers to the refuge to study and monitor refuge resources.

Hunting and fishing will continue to be allowed on the refuge. However, hunting will be managed with a greater focus on achieving biological needs of the refuge, such as deer population management and feral hog elimination. Education and interpretation will continue, but with additional education and outreach efforts aimed at the importance of landscape ecology and diversity. A much broader effort will be made with outreach to nearby developing urban communities and a growing human population.

The refuge will be staffed the same as the 2008 staffing model to enhance all refuge services and management programs. We will place greater emphasis on recruiting and training volunteers, and expanding worker-camper opportunities to facilitate maintenance programs and other refuge goals and objectives. We will actively seek funding for research needs. We will place greater emphasis on developing and maintaining active partnerships, including seeking grants to assist the refuge in reaching primary objectives.

Alternative C is considered to be the most effective for meeting the purposes of the refuge by conserving, restoring, and managing the refuge's habitats and wildlife, while optimizing wildlife-dependent public uses. Alternative C will best achieve national, ecosystem, and refuge-specific goals and objectives and it positively addresses significant issues and concerns expressed by the public.

Authority: This notice is published under the authority of the National Wildlife Refuge System Improvement Act of 1997, Public Law 105-57.

Dated: September 30, 2009.
Jacquelyn B. Parrish,
Acting Regional Director.

[FR Doc. E9-29869 Filed 12-15-09; 8:45 am]

BILLING CODE 4310-55-P